ENVIRONMENTAL PROTECTION AGENCY

[FRL-7452-9]

Issuance of a Final General Permit to the National Science Foundation for the Ocean Disposal of Man-Made Ice Piers From its Base at McMurdo Sound on Antarctica

AGENCY: Environmental Protection Agency (EPA).

ACTION: Final permit.

SUMMARY: EPA is today issuing a general permit under sections 102(a) and 104(c) of the Marine Protection, Research, and Sanctuaries Act (MPRSA) to the National Science Foundation (NSF) for the disposal at sea of man-made ice piers from its base at McMurdo Sound on Antarctica. McMurdo Station, which is located on the southern tip of Hut Point Peninsula on Ross Island, is the largest of three stations in Antarctica operated by the National Science Foundation. This station is the logistics hub of the United States Antarctic Program. The majority of personnel and supplies destined for bases and field camps on Antarctica pass through McMurdo Station. In order to unload supplies, ships dock at an ice pier at McMurdo Station; this man-made pier has a normal life span of three to five years. At the end of its useful life, all transportable equipment, materials, and debris are removed, and the pier is cast loose from its moorings at the base and towed out to McMurdo Sound for disposal, where it melts naturally. Issuance of this general permit is necessary because the pier must be towed out to sea for disposal at the end of its useful life. This final general permit is intended to protect the marine environment by setting forth permit conditions, including operating conditions during use of the pier and clean-up, with which the NSF must comply before the disposal of such ice piers can take place. EPA has determined that only minimal adverse environmental impacts will result from the dumping of ice piers under this general permit.

DATES: This permit is effective February 14, 2003.

ADDRESSES: Additional information on this final general permit can be obtained from the person identified in the section FOR FURTHER INFORMATION CONTACT, which follows below.

FOR FURTHER INFORMATION CONTACT: David Redford, Chief, Marine Pollution Control Branch, Oceans and Coastal Protection Division (4504T), U.S. Environmental Protection Agency, 1200 Pennsylvania Avenue, NW., Washington, DC 20460; telephone (202) 566-1288.

SUPPLEMENTARY INFORMATION:

A. The McMurdo Station Ice Pier

The NSF is the agency of the United States Government responsible for oversight of the United States Antarctic Program. The NSF currently operates three major bases in Antarctica: McMurdo Station on Ross Island, adjacent to McMurdo Sound; Palmer Station, near the western terminus of the Antarctic Peninsula; and Amundsen-Scott South Pole Station, at the geographic South Pole. McMurdo Station is the largest of the three stations, and serves as the primary logistics base for Antarctica.

For most of the year, McMurdo Station is closed in by sea ice. However, in early January, a U.S. Coast Guard icebreaker opens a channel to the harbor at McMurdo Station, allowing a fuel tanker and a supply vessel to replenish the station. The tanker normally arrives in mid-January to unload fuel and unleaded gasoline. In early February, the supply vessel arrives and off-loads the annual provision of supplies for McMurdo Station and other U.S. Antarctic bases. After unloading its cargo, the supply vessel is backloaded with the previous year's accumulation of wastes, which are returned to the United States for disposal and recycling.

Construction of an ice pier is necessary to allow the various vessels to dock and unload at McMurdo Station. This ice pier, which is approximately 800 feet long, 300 feet wide, and 22 feet thick, is constructed during the winter season. The pier has several wooden poles frozen in it to support lighting, power, and telephone connections, and is covered with a gravel surface. At the end of each austral summer season, the pier is inspected, and as much of the gravel surface as possible is removed and stored for use the following season. If the pier is to be reused the next year, it is flooded with seawater during the winter to create a new surface for the following summer season.

The ice pier has a normal viable life of three to five years; after that period, factors such as stress cracking and erosion cause the pier to be unusable. If the pier has deteriorated to the point that it is not capable of being used the following season, the wooden poles are cut off just above the surface of the ice, the gravel is scraped off for use in the following season, all transportable equipment, materials, and debris are removed, and the pier is physically separated from McMurdo Base. It is then towed by a U.S. Coast Guard cutter to float free in the ice pack of the Ross Sea, where it mixes with the annual sea ice, and eventually disintegrates.

Please see the proposed permit notice in the Federal Register (68 FR 775-780, January 7, 2003) for a complete discussion of the McMurdo Station ice pier, including the process by which it is constructed, the reasons why the pier needs to be disposed of and reconstructed on a regular basis, the procedures undertaken prior to disposal to assure that minimal substances remain on the pier, and a description of the physical disposal process.

B. Statutory and Regulatory Background

Section 102(a) of the Marine Protection, Research, and Sanctuaries Act (MPRSA), 33 U.S.C. 1412(a), requires that agencies or instrumentalities of the United States obtain a permit to transport any material from any location for the purpose of dumping into ocean waters. Section 104(c) of the MPRSA, 33 U.S.C. 1414(c), and EPA regulations at 40 CFR 220.3(a) authorize the issuance of a general permit under the MPRSA for the dumping of materials which have a minimal adverse environmental impact, and are generally disposed of in small quantities.

The proposed towing of ice piers by the NSF from McMurdo Station for disposal at sea constitutes transportation of material for the purpose of dumping in ocean waters, so it is subject to the MPRSA. EPA has determined that only minimal adverse environmental impacts will result from the ocean dumping of ice piers under this general permit.

C. Discussion

Today EPA is issuing a general permit to the NSF and its agents for the ocean dumping of man-made ice piers from the NSF research station at McMurdo Sound, Antarctica, subject to specific conditions. Agents of the NSF are included in the permit because transportation for the purpose of dumping the pier may be by vessels which are not under the direct ownership or operational control of the NSF, e.g., the U.S. Military Sealift Command, the U.S. Navy, or the U.S. Coast Guard. Further, the general permit applies only to the ocean dumping of man-made ice piers from the NSF station at McMurdo Sound, Antarctica. The 1992 amendments to the MPRSA (Pub. L. 102-580) provide that permits under the MPRSA shall be issued for a period not to exceed seven years (Sec. 104(a), 33 U.S.C. 1414(a)); consequently, the term of this permit is limited to a maximum of seven years.

This general permit establishes several conditions that must be met during the life of, and prior to the ocean dumping of, an ice pier. For example, the non-embedded ends of all utility poles and bollards must be cut off from the ice pier prior to disposal, and shall not be disposed of in the ocean. In addition, this general permit requires the NSF to report by June 30 of every year to the Director of the Oceans and Coastal Protection Division, in EPA's Office of Water, on any spills, discharges, or clean-up procedures on the ice pier, and on any ocean dumping of ice piers from McMurdo Station conducted under this general permit.

The conditions specified in this general permit are intended to protect the Antarctic environment against release of contaminants from the McMurdo Station ice pier following its ocean dumping and subsequent melting. As noted above, section 104(c) of the MPRSA, 33 U.S.C. 1414(c), and EPA regulations at 40 CFR 220.3(a) authorize the issuance of general permits for the dumping of materials which have a minimal adverse environmental impact. The Agency has determined that only minimal adverse environmental impacts would result from the dumping of ice piers from the NSF base at McMurdo Station in Antarctica.

Furthermore, the NSF is directed, as a condition of this permit, to utilize a methodology to track any ice piers released from McMurdo Station for a period of one year from the date of release. Such methodologies may include the use of satellite-tracked pingers placed on the ice pier, or any other methodology that will allow data to be collected on the course, speed, and location of the ice pier. The results of these tracking efforts are to be included in the reports that the NSF is required to submit to the Agency. If tracking results demonstrate that all such ice piers released have generally followed the same path and time duration for the one year following release, the Agency will consider whether further tracking efforts and tracking reports shall be required from the NSF under any future versions of this permit.

D. Response to Comments Received

One comment was received on the proposed general permit (68 FR 775-780, January 7, 2003). That comment, from The Antarctica Project (TAP), raised two points of concern about the proposed permit. Both points derive from Section (b) of the permit; that section requires NSF or its contractors to clean up any spill or discharge on the ice pier below any visible evidence of the spill or discharge, and to clean up any spill or discharge within two hours of the spill or discharge, or as soon as possible thereafter.

The first concern raised by TAP questioned whether allowing the NSF to clean up a spill “within two hours of the spill or discharge, or as soon as possible thereafter,” was sufficiently environmentally protective. TAP has proposed revising the language to read: “All spills or discharges on an ice pier must be cleaned up within two hours of the spill or discharge, unless circumstances prevent cleanup within this time frame. In that event, the spill or discharge will be cleaned up as soon as possible thereafter.” Discussion of this point with NSF has made it clear that the Foundation intends to meet the two-hour cleanup requirement unless unusual circumstances prevent it from doing so. Such circumstances may include situations such as sudden severe weather conditions, a fire in the McMurdo Station complex, or a much larger discharge event elsewhere at McMurdo Station, that would require immediate and primary attention from cleanup personnel. Therefore, the language of the permit has been modified to accommodate TAP's concern.

Second, TAP questioned whether cleaning up a spill or discharge below any visible evidence of the spill or discharge was environmentally sufficient; they stated that a spill or discharge may penetrate into the ice below the point of visibility. TAP wanted the cleanup of any spill or discharge to be confirmed by testing, presumably by sampling and analysis. As described in the section entitled SUPPLEMENTARY INFORMATION in the proposed permit notice (68 FR 775, 778), NSF conducted sampling and analysis on a previous ice pier, evaluating both general areas of the pier and specific locations that showed any sign of contamination. The results of these analyses demonstrated that cleanup efforts were effective in removing petroleum hydrocarbons. EPA believes that the combination of spill prevention measures by NSF to minimize the risk of any spills or discharges, as well as the removal of any visually contaminated areas in a spill event will effectively address any concerns with residual contamination of the ice pier. Consequently, the language of the permit has not been modified to reflect TAP's comments on this point.

E. Endangered Species Act

The Endangered Species Act (ESA) imposes duties on Federal agencies regarding endangered species of fish, wildlife, or plants and habitats of such species that have been designated as critical. Section 7(a)(2) of the ESA and its implementing regulations (50 CFR part 402) require EPA to ensure, in consultation with the Secretary of Interior or Commerce, that any action authorized, funded, or carried out by EPA in the United States or upon the high seas, is not likely to jeopardize the continued existence of any endangered or threatened species, or adversely affect their critical habitat.

In compliance with section 7 of the ESA, an endangered species list for the affected area of ocean dumping of ice piers from the NSF facility at McMurdo Station was requested by EPA and received from both the Fish and Wildlife Service (F&WS) of the Department of the Interior and the National Marine Fisheries Service (NMFS) of the Department of Commerce. No endangered, threatened, or candidate species are reported to occur in the affected area.

Before issuing the notice proposing issuance of a general permit to NSF for the ocean dumping of ice piers, EPA discussed this matter with both the F&WS and the NMFS pursuant to section 7 of the ESA, and the agencies have agreed that the ocean dumping of ice piers by the NSF or its agents from McMurdo Station in Antarctica will have no effect on endangered or threatened species. EPA stated that it would consider any comments offered by either the F&WS or the NMFS on this issue before promulgating a final general permit for the ocean dumping of ice piers. No further comments were received from either agency on this matter.

Dated: February 11, 2003.
Suzanne E. Schwartz,
Director, Oceans and Coastal Protection Division.

The general permit is as follows:

Disposal of Ice Piers from McMurdo Station, Antarctica

The United States National Science Foundation and its agents are hereby granted a general permit under sections 102(a) and 104(c) of the Marine Protection, Research, and Sanctuaries Act, 33 U.S.C. 1412(a) and 1414(c), to transport ice piers from the McMurdo Sound, Antarctica, research station for the purpose of ocean dumping, subject to the following conditions:

(a) The NSF shall have a spill prevention, control, and countermeasures (SPCC) plan in place, consistent with the requirements of 40 CFR 112.3, for the McMurdo Station ice pier. The SPCC plan shall address procedures for loading and unloading the following materials, and shall include methods to minimize the accidental release or discharge of any of the following materials to the ice pier:

(1) Petroleum products unloaded from supply tankers to the storage tanks at McMurdo Station;

(2) Drummed chemicals, petroleum products, and materiel unloaded from cargo freighters to supply depots at McMurdo Station; and

(3) Materials loaded to freighters destined to be returned to bases outside Antarctica.

(b) If a spill or discharge occurs on an ice pier, clean-up procedures must be completed by NSF or its contractors to a level below any visible evidence of the spill or discharge. All spills or discharges on an ice pier must be cleaned up within two hours of the spill or discharge, unless circumstances prevent cleanup within this time frame. In that event, the spill or discharge will be cleaned up as soon as possible thereafter.

(c) As part of normal monitoring requirements, a record of the following information shall be kept by NSF:

(1) The date and time of all spills or discharges, the location of the spill or discharge, a description of the material that was spilled or discharged, the approximate volume of the spill or discharge, clean-up procedures employed, and the results;

(2) The number of wooden poles remaining in the pier at the time of its release from McMurdo Station, and their approximate length;

(3) The approximate length of the steel cables remaining in the pier at the time of its release from McMurdo Station;

(4) Any other substances remaining on the pier at the time of its release from McMurdo Station; and

(5) The date of detachment of the pier from McMurdo Station, and the geographic coordinates (latitude and longitude) of the point of final release of the pier in McMurdo Sound or the Antarctic Sea.

(d) The non-embedded ends of all wooden utility poles and bollards will be cut off from the ice pier prior to disposal, and shall not be disposed of in the ocean.

(e) Prior to the ocean dumping of any ice piers, the following actions shall be taken by NSF:

(1) Other than the matter physically embedded in the ice pier (i.e., the ends of light poles or bollards frozen in the pier, and the strengthening cables), all other objects (including the non-embedded portions of bollards used for maintaining a connection between the pier and the mainland, the non-embedded portions of poles used for lighting, power, or telephone connections, and any removable equipment, debris, or objects of anthropogenic origin), shall be removed from the pier prior to dumping.

(2) The gravel non-slip surface of the pier shall be removed to the maximum extent possible, and stored on the mainland for subsequent use.

(3) A methodology to track any ice piers released from McMurdo Station shall be established and utilized for a period of one year from the date of release of the ice pier. The results of these tracking efforts are to be included in the annual reports that the NSF is required to submit to EPA.

(f) The NSF shall submit a report by June 30 of every year to the Director of the Oceans and Coastal Protection Division, in EPA's Office of Water, on (1) Any spills, discharges, or clean-up procedures on the ice pier at McMurdo Station, (2) any ocean dumping of ice piers from McMurdo Station, and (3) any tracking efforts of ice piers released from McMurdo Station under this general permit for the year preceding the date of the annual report.

(g) For the purpose of this permit, the term “ice pier(s)” means those man-made ice structures containing embedded steel cable, and any remaining gravel frozen into the surface of the pier, that are constructed at McMurdo Station, Antarctica, for the purpose of off-loading the annual provision of materiel and supplies for the base at McMurdo Station and other U.S. Antarctic bases, and for loading the previous year's accumulation of wastes, which are returned to the United States.

(h) This permit shall be valid until February 18, 2010.

[FR Doc. 03-3840 Filed 2-13-03; 8:45 am]

BILLING CODE 6560-50-P